DEPARTMENT OF COMMERCE

National Oceanic and Atmospheric Administration

Notice of Approval for the He`eia National Estuarine Research Reserve Management Plan

AGENCY: Stewardship Division, Office for Coastal Management, National Ocean Service, National Oceanic and Atmospheric Administration, U.S. Department of Commerce.

ACTION: Public notice.

SUMMARY: Notice is hereby given that the Stewardship Division, Office for Coastal Management, National Ocean Service, National Oceanic and Atmospheric Administration (NOAA), U.S. Department of Commerce approves the Management Plan for the He`eia National Estuarine Research Reserve (NERR) located in Hawai'i.

The National Estuarine Research Reserve System (NERRS) is a federal-state partnership administered by NOAA. The system protects more than 1.3 million acres of estuarine habitat for long-term research, monitoring, education and stewardship throughout the coastal United States. Established by the Coastal Zone Management Act of 1972, as amended, each reserve is managed by a lead state agency or university, with input from local partners. NOAA provides funding and national programmatic guidance.

The He'eia Reserve Management Plan addresses research, monitoring, education, and stewardship/cultural resources needs for the proposed reserve. The Management Plan has been organized with goals, objectives and strategies that are based on an adaptive management planning framework. These goals, focusing on the He`eia estuary, traditional knowledge, coastal resources, and management issues, closely link the NERRS program sectors of education, research and training, and stewardship. The goals of the Management Plan can be applied beyond the five-year timeframe of the Management Plan.

On September 2, 2016, NOAA issued notice of a public hearing and a thirty-day public comment period for the He`eia Reserve Management Plan and a Draft Environmental Impact Statement associated with the Proposed Designation of the He'eia NERR (81 FR 60676). On October 13, 2016, NOAA announced a 13-day extension to the public comment period (81 FR 70666). Responses to the relevant written and oral comments on the Management Plan have been incorporated into Appendix D of the Final Environmental Impact Statement for the He`eia National Estuarine Research Reserve. The final Management Plan and final EIS, including the Appendix D response to comments, are available at the regulations.gov Web site by searching for Docket Number NOAA-NOS-2016-0114, and at https://coast.noaa.gov/czm/compliance/.

FOR FURTHER INFORMATION CONTACT: Joelle Gore, Chief, Stewardship Division, Office for Coastal Management at 240-533-0813 or via email at joelle.gore@noaa.gov.

Federal Domestic Assistance Catalog 11.420

Coastal Zone Management Program Administration

Dated: December 13, 2016.
Keelin Kuipers,
Division Chief, Policy, Planning and Communications, National Ocean Service, National Oceanic and Atmospheric Administration.

[FR Doc. 2016-30441 Filed 12-15-16; 8:45 am]

BILLING CODE 3510-08-P